DEPARTMENT OF HEALTH AND HUMAN SERVICES

Office of the Secretary

Office for Civil Rights; Statement of Delegation

Notice is hereby given that I have delegated to the Director of the Office for Civil Rights, or his or her successor, the authorities vested in the Secretary concerning enforcement of and compliance with Section 1303(b)(4) of the Patient Protection and Affordable Care Act, 42 U.S.C. 18023(b)(4). This delegation transfers, but only for the authorities pursuant to Section 1303(b)(4) and not for other authorities under Section 1303, the previous delegation to the Administrator, Centers for Medicare & Medicaid Services, or his or her successor, noticed at 76 FR 53903 (Aug. 30, 2011).

Pursuant to this delegation, the OCR Director shall have the authority to:

(1) Accept and investigate complaints filed by individuals or entities alleging a failure to comply with Section 1303(b)(4);

(2) conduct Section 1303(b)(4) compliance reviews;

(3) provide technical assistance to departmental components and qualified health plans regarding Section 1303(b)(4) compliance;

(4) evaluate the effectiveness of subsection 1303(b)(4) complaint processing by OCR and provide reports to appropriate oversight organizations; and

(5) initiate such other actions as may be necessary to facilitate and ensure compliance with Section 1303(b)(4).

This authority may be redelegated. If the OCR Director chooses to redelegate this authority, the OCR Director will maintain primary responsibility and accountability for implementation of this section. This delegation is effective upon date of signature. I hereby affirm and ratify any actions taken by the Director of OCR or subordinates which involved the exercise of the authorities delegated herein prior to the effective day of this delegation.

Dated: December 7, 2017.
Eric D. Hargan,
Acting Secretary, Department of Health and Human Services.

[FR Doc. 2018-00818 Filed 1-18-18; 8:45 am]

BILLING CODE 4153-01-P